DEPARTMENT OF DEFENSE

Department of the Army

Notice of Intent To Exclusively License U.S. Army Invention

AGENCY: Department of the Army, DoD.

ACTION: Notice.

SUMMARY: In accordance with 37 CFR 404.6, announcement is made of the intent to exclusively license a U.S. Army Invention entitled Moving Target Indication Algorithm for Video Surveillance Applications. The invention intended to be licensed has been assigned to the United States of America as represented by the Secretary of the Army, Washington, DC.

Under the authority of Section 11(a)(2) of the Federal Technology Transfer Act of 1986 (Pub. L. 99-502) and Section 207 of Title 35, United States Code, the Department of the Army as represented by the U.S. Army Research Laboratory intends to exclusively or partially exclusively license the invention listed below to videoNEXT Network Solutions, LLC, a small business which is interested in manufacturing, using and/or selling devices or processes involved in this invention.

Title: Moving Target Indication Algorithm for Video Surveillance Applications.

Inventors: Alex Chan.

Patent Number: Provisional Application, Registration No. 39,612.

Issued Date: Filed September 13, 2004.

FOR FURTHER INFORMATION CONTACT: Norma Cammarata, Technology Transfer Office, AMSRD-ARL-DP-T, Army Research Laboratory, Adelphi, MD 20783-1197; tel: (301) 394-2952, fax: (301) 394-5818.

SUPPLEMENTARY INFORMATION: None.

Brenda S. Bowen,
Army Federal Register Liaison Officer.

[FR Doc. 04-27572 Filed 12-15-04; 8:45 am]

BILLING CODE 3710-08-M